DEPARTMENT OF THE TREASURY

Internal Revenue Service

26 CFR Part 1

[REG-131947-10]

RIN 1545-BJ71

Property Traded on an Established Market; Hearing Cancellation

AGENCY: Internal Revenue Service (IRS), Treasury.

ACTION: Cancellation of notice of public hearing on proposed rulemaking.

SUMMARY: This document cancels a public hearing on a proposed rulemaking relating to determining when property is traded on an established market (that is, publicly traded) for purposes of determining the issue price of a debt instrument.

DATES: The public hearing originally scheduled for April 13, 2011 at 10 a.m. is cancelled.

FOR FURTHER INFORMATION CONTACT: Funmi Taylor of the Publications and Regulations Branch, Legal Processing Division, Associate Chief Counsel (Procedure and Administration) at (202) 622-7180 (not a toll-free number).

SUPPLEMENTARY INFORMATION: A notice of proposed rulemaking and a notice of public hearing that appeared in the Federal Register on Friday, January 7, 2011 (76 FR 1101) announced that a public hearing was scheduled for April 13, 2011, at 10 a.m. in the IRS Auditorium, Internal Revenue Building, 1111 Constitution Avenue, NW., Washington, DC. The subject of the public hearing is under section 1273(b) of the Internal Revenue Code.

The public comment period for the proposed rulemaking expired on March 8, 2011. The notice of proposed rulemaking and notice of public hearing instructed those interested in testifying at the public hearing to submit an outline of the topics to be addressed. As of Tuesday, March 15, 2011, no one has requested to speak. Therefore, the public hearing scheduled for April 13, 2011, is cancelled.

LaNita VanDyke,
Chief, Publications and Regulations Branch, Legal Processing Division, Associate Chief Counsel (Procedure and Administration).

[FR Doc. 2011-6603 Filed 3-21-11; 8:45 am]

BILLING CODE 4830-01-P